DEPARTMENT OF JUSTICE

Notice of Lodging Fifth Amendment To Consent Decree Pursuant to the Clean Air Act

In accordance with 28 CFR 50.7, notice is hereby given that on April 16, 2012, a proposed consent decree amendment in United States v. Sinclair Wyoming Refining Co., et al., Case No. 08-cv-020-WFD, was lodged with the United States District Court for the District of Wyoming.

The proposed Fifth Amendment To Consent Decree would resolve the United States' claims against Sinclair Wyoming Refining Company (“SWRC”) under the original consent decree and Section 113(b) of the Clean Air Act, 42 U.S.C. 7413(b), that resulted from the January 22, 2011 fire at SWRC's refinery in Sinclair, Wyoming, that damaged the facility's electrostatic precipitator (an emissions control device). Under the terms of the Fifth Amendment To Consent Decree, the SWRC will take action to obtain additional emissions reductions at SWRC's refinery in Sinclair, Wyoming, that will more than offset the emissions that resulted from the fire.

The Department of Justice will receive comments relating to the proposed consent decree amendment for a period of thirty (30) days from the date of this publication. Comments should be addressed to the Assistant Attorney General for the Environment and Natural Resources Division, Department of Justice, Washington, DC 20530, and should refer to United States v. Sinclair Wyoming Refining Co., et al., Case No. 08-cv-020-WFD, and Department of Justice Reference No. 90-5-2-1-07793.

During the public comment period, the consent decree amendment may be examined on the following Department of Justice Web site, http://www.usdoj.gov/enrd/Consent_Decrees.html. A copy of the consent decree amendment may also be obtained by mail from the Consent Decree Library, P.O. Box 7611, U.S. Department of Justice, Washington, DC 20044-7611 or by faxing or emailing a request to “Consent Decree Copy” (EESCDCopy.enrd@usdoj.gov), fax no. (202) 514-0097, phone confirmation number (202) 514-5271. If requesting a copy from the Consent Decree Library by mail, please enclose a check in the amount of $4.50 ($.25 per page) payable to the U.S. Treasury or, if by email or fax, forward a check in that amount to the Consent Decree Library at the address given above.

Robert D. Brook,
Assistant Chief, Environmental Enforcement Section, Environment and Natural Resources Division.

[FR Doc. 2012-9672 Filed 4-20-12; 8:45 am]

BILLING CODE 4410-15-P